DEPARTMENT OF ENERGY

Federal Energy Regulatory Commission

[Docket No. PR02-17-001]

Gulf States Pipelines Corporation; Notice Shortening Comment Period

November 13, 2002.

On October 29, 2002, Gulf States Pipeline Corporation (Gulf States) filed an Offer of Settlement in the above-docketed proceeding. Included in its filing was a request to shorten the period for filing initial and reply comments in response to the Offer of Settlement. Gulf States states that there are no intervenors in this docket and the Commission Staff supports the Settlement. Consequently, we are shortening the date for filing initial comments to and including November 18, 2002. Reply comments should be filed on or before November 25, 2002.

Linwood A. Watson, Jr.,
Deputy Secretary.

[FR Doc. 02-29279 Filed 11-18-02; 8:45 am]

BILLING CODE 6717-01-P